Title 3—

The President

Proclamation 7727 of October 30, 2003

National Hospice Month, 2003

By the President of the United States of America

A Proclamation

Hospice care plays an important role in American medicine by easing a patient's suffering while reaffirming individual dignity in a familiar, comfortable environment. Across our Nation, hospice care providers are assisting in hospitals, nursing homes, and private residences, offering physical, emotional, and spiritual support to patients who often have a short life expectancy.

Hospice teams consist of physicians, nurses, social workers, counselors, and volunteers who are experts in end-of-life issues. They offer pain management, therapy, nutrition, and other supportive care in the home or other comfortable surroundings, making it easier for patients, family members, and friends to spend time together in their loved one's final days. Hospice experts also offer grief counseling to friends and family members after their loss.

Every stage of human life deserves to be treated with respect and care. I commend all those who work and volunteer as hospice care providers. Their contributions make our Nation a better place.

NOW, THEREFORE, I, GEORGE W. BUSH, President of the United States of America, by virtue of the authority vested in me by the Constitution and laws of the United States, do hereby 2 proclaim November 2003 as National Hospice Month. I encourage Americans to increase their awareness of hospice service and to observe this month with appropriate activities and programs.

IN WITNESS WHEREOF, I have hereunto set my hand this thirtieth day of October, in the year of our Lord two thousand three, and of the Independence of the United States of America the two hundred and twenty-eighth.

B

[FR Doc. 03-27873

Filed 11-3-03; 8:45 am]

Billing code 3195-01-P